DEPARTMENT OF TRANSPORTATION

Surface Transportation Board

Information Collection Activities: Statutory Licensing and Consolidation Authority

AGENCY: Surface Transportation Board, DOT.

ACTION: 60-day notice and request for comments.

SUMMARY: As required by the Paperwork Reduction Act of 1995, 44 U.S.C. 3501-3519 (PRA), the Surface Transportation Board (STB or Board) gives notice of its intent to seek from the Office of Management and Budget (OMB) an extension of approval for the information collections required from those seeking licensing authority under 49 U.S.C. 10901-03 and consolidation authority under §§ 11323-26.

Under these Title 49 provisions, rail carriers and non-carriers are required to file an application with the Board, or seek an exemption (through petition or notice) from the full application process under § 10502, before they may construct, acquire, or operate a line of railroad; abandon or discontinue operations over a line of railroad; or consolidate their interests through a merger or common-control arrangement. The relevant information collections are described in more detail below.

Comments are requested concerning: The accuracy of the Board's burden estimates; ways to enhance the quality, utility, and clarity of the information collected; ways to minimize the burden of the collection of information on the respondents, including the use of automated collection techniques or other forms of information technology, when appropriate; and whether the collection of information is necessary for the proper performance of the functions of the Board, including whether the collection has practical utility. Submitted comments will be summarized and included in the Board's request for OMB approval.

Description of Collections

Title: Statutory Licensing and Consolidation Authority.

OMB Control Number: 2140-0023.

STB Form Number: None.

Type of Review: Extension without change.

Respondents: Rail carriers and non-carriers seeking statutory licensing or consolidation authority or an exemption from filing an application for such authority.

Number of Respondents: 64.¹

¹ Approximately 40% of the filings were additional filings submitted by railroads that had already submitted filings during the time period. Therefore, the number of respondents (64) is approximately 40% less than the number of filings (106).

Frequency: On occasion.

Table—Number of Responses in FY 2011
Type of filing | Number of filings under 49 U.S.C. 10901-03 and 11323-26
Applications | 2
Petitions * | 18
Notices * | 103
* Under § 10502, petitions for exemption and notices of exemption are permitted in lieu of an application.

Total Burden Hours (annually including all respondents): 4,049 hours (sum total of estimated hours per response × number of responses for each type of filing).

Table—Estimated Hours per Response
Type of filing | Number of hours per response under 49 U.S.C. 10901-03 and 11323-26
Applications | 524
Petitions * | 58
Notices * | 19
* Under § 10502, petition for exemptions and notices of exemption are permitted in lieu of an application.

Total “Non-hour Burden” Cost (such as filing fees): None identified. Filings are submitted electronically to the Board.

Needs and Uses: Under the Interstate Commerce Act, as amended by the ICC Termination Act of 1995, Public Law 104-88, 109 Stat. 803 (1995), persons seeking to construct, acquire or operate a line of railroad and railroads seeking to abandon or to discontinue operations over a line of railroad or, in the case of two or more railroads, to consolidate their interests through merger or a common-control arrangement are required to file an application for prior approval and authority with the Board. See 49 U.S.C. 10901-03 and 11323-26. Under 49 U.S.C. 10502, persons may seek an exemption from many of the application requirements of §§ 10901-03 and 11323-26 by filing with the Board a petition for exemption or notice of exemption in lieu of an application. The collection by the Board of these applications, petitions, and notices enables the Board to meet its statutory duty to regulate the referenced rail transactions. See Table—Statutory and Regulatory Provisions below.

Retention Period: Information in these collections is maintained by Board for 10 years, after which it is transferred to the National Archives as permanent records.

DATES: Comments on this information collection should be submitted by September 4, 2015.

ADDRESSES: Direct all comments to Chris Oehrle, Surface Transportation Board, 395 E Street SW., Washington, DC 20423-0001, or to PRA@stb.dot.gov. When submitting comments, please refer to “Statutory Licensing and Consolidation Authority.” For further information regarding this collection, contact PRA@stb.dot.gov or Chris Oehrle at (202) 245-0271. [Federal Information Relay Service (FIRS) for the hearing impaired: (800) 877-8339.] Filings made in responses to this collection are available on the Board's Web site at www.stb.dot.gov.

SUPPLEMENTARY INFORMATION: Under §§ 10901-03 and 11323-26, an application is required to seek authority under these sections, unless an applicant receives an exemption under 49 U.S.C. 10502. Respondents seeking such authority from the Board must submit certain information required under the Board's related regulations. The table below shows the statutory and regulatory provisions under which the Board requires the information collections that are the subject of this notice.

Table—Statutory and Regulatory Provisions *
Certificate required | Statutory provision | Regulations
Construct, Acquire, or Operate Railroad Lines | 49 U.S.C. 10901 | 49 CFR Part 1150.
Short Line purchases by Class II and Class III Rail Carriers | 49 U.S.C. 10902 | 49 CFR 1150.41-45.
Abandonments and Discontinuances | 49 U.S.C. 10903 | 49 CFR Part 1152.
Railroad Acquisitions, Trackage Rights, and Leases | 49 U.S.C. 11323-26 | 49 CFR Part 1180.
* STB regulations may be viewed on the STB Web site under E-Library > Reference: STB Rules (http://www.stb.dot.gov/stb/elibrary/ref_stbrules.html).

Under the PRA, a Federal agency conducting or sponsoring a collection of information must display a currently valid OMB control number. A collection of information, which is defined in 44 U.S.C. 3502(3) and 5 CFR 1320.3(c), includes agency requirements that persons submit reports, keep records, or provide information to the agency, third parties, or the public. Under § 3506(c)(2)(A) of the PRA, Federal agencies are required to provide, prior to an agency's submitting a collection to OMB for approval, a 60-day notice and comment period through publication in the Federal Register concerning each proposed collection of information, including each proposed extension of an existing collection of information.

Dated: June 29, 2015.
Jeffrey Herzig,
Clearance Clerk.

[FR Doc. 2015-16447 Filed 7-2-15; 8:45 am]

BILLING CODE 4915-01-P